DEPARTMENT OF TRANSPORTATION

National Highway Traffic Safety Administration

49 CFR Part 571

[DOT Docket No. NHTSA-01-10367]

RIN: 2127-AH15

Federal Motor Vehicle Safety Standards; Motorcycle Brake Systems

AGENCY: National Highway Traffic Safety Administration (NHTSA), DOT.

ACTION: Final rule.

SUMMARY: In this document, we (NHTSA) amend the Federal motor vehicle safety standard on motorcycle brakes by reducing the minimum hand lever force from 5 pounds (presently specified) to 2.3 pounds and the minimum foot pedal force from 10 pounds (presently specified) to 5.6 pounds in the fade recovery and water recovery tests. The new force levels are low enough to accommodate new braking systems that are combined or “linked” (i.e., the hand and foot brakes working in tandem). Compared with older motorcycle braking systems, combined or “linked” braking systems do not need as much force exerted on them to be effective. Yet the force levels are still high enough to ensure that motorcycles utilizing more mature technologies will not have problems with overly sensitive brakes. This rulemaking was initiated in response to a petition from American Honda Motor Co., Inc.

DATES: This rule is effective August 14, 2002. Optional early compliance with the changes made in this final rule is permitted beginning August 14, 2001. Any petitions for reconsideration of this final rule must be received by NHTSA not later than September 28, 2001.

ADDRESSES: Petitions for reconsideration should refer to the docket number for this action and be submitted to: Administrator, National Highway Traffic Safety Administration, 400 Seventh St., SW., Washington, DC 20590. Copies of the Final Regulatory Evaluation for this rule can be obtained from: Docket Management, Room PL-401, 400 Seventh Street, SW., Washington, DC 20590. You may call the Docket at 202-366-9324. You may visit the Docket from 10:00 a.m. to 5:00 p.m., Monday through Friday. The Docket is closed on Federal holidays.

FOR FURTHER INFORMATION CONTACT: For technical issues, you may call Mr. Joseph Scott, Office of Crash Avoidance Standards at (202) 366-8525. His FAX number is (202) 493-2739.

For legal issues, you may call Ms. Dorothy Nakama, Office of the Chief Counsel at (202) 366-2992. Her FAX number is (202) 366-3820.

You may send mail to both of these officials at National Highway Traffic Safety Administration, 400 Seventh St., SW., Washington, DC 20590.

SUPPLEMENTARY INFORMATION:

Background

Federal Motor Vehicle Safety Standard No. 122, Motorcycle brake systems, (49 CFR § 571.122) took effect on January 1, 1974 (see Federal Register notice of June 16, 1972, 37 FR 1973). Standard No. 122 specifies performance requirements for motorcycle brake systems. The purpose of the standard is to provide safe motorcycle braking performance under normal and emergency conditions. The safety afforded by a motorcycle's braking system is determined by several factors, including stopping distance, linear stability while stopping, fade resistance, and fade recovery. A safe system should have features that both guard against malfunction and stop the vehicle if a malfunction should occur in the normal service system. Standard No. 122 covers each of these aspects of brake safety, specifying equipment and performance requirements appropriate for two-wheeled and three-wheeled motorcycles.

Among other requirements, the motorcycle manufacturer must be sure that each motorcycle meets requirements under the conditions specified in S6 of the Standard and the test procedures and sequence specified in S7. Two of the tests specified in S7 are the fade and recovery test and the water recovery test.

The fade and recovery test compares the braking performance of the motorcycle before and after ten 60 mile per hour stops at a deceleration of not less than 15 feet per second per second (fps²). As a check test, three baseline stops ¹ are conducted from 30 miles per hour at 10 to 11 fps², with the maximum brake lever and maximum pedal forces recorded during each stop, and averaged over the three baseline stops. Ten 60-mile-per-hour stops are then conducted at a deceleration rate of 14 to 17 fps², followed immediately by five fade recovery stops from 30 miles per hour at a deceleration rate of 10 to 11 fps². The maximum brake pedal and lever forces measured during the fifth recovery stop must be within plus 20 pounds and minus 10 pounds of the baseline average maximum brake pedal and lever forces.

¹ The baseline check is used to establish a specific motorcycle's pre-test performance to provide a basis for comparison with post-test performance. This comparison is intended to ensure adequate brake performance, at reasonable lever and pedal forces, after numerous high speed or wet condition stops.

The water recovery test compares the braking performance of the motorcycle before and after the motorcycle brakes are immersed in water for two minutes. Three baseline stops are conducted from 30 miles per hour at 10 to 11 fps², with the maximum brake lever and pedal forces recorded during each stop, and averaged over the three baseline stops. The motorcycle brakes are then immersed in water for two minutes, followed immediately by five water recovery stops from 30 miles per hour at a deceleration rate of 10 to 11 fps². The maximum brake pedal and lever forces measured during the fifth recovery stop must be within plus 20 pounds and minus 10 pounds of the baseline average maximum brake pedal force and the lever force.

American Honda Motor Co., Inc. Petition for Rulemaking

In a submission dated November 3, 1997, American Honda Motor Co., Inc. (Honda) petitioned us to amend Standard No. 122 to eliminate the minimum hand lever force of 5 pounds and the minimum foot pedal force of 10 pounds for the fade recovery and water recovery tests.² Honda requested these changes in order to facilitate the U.S. sale of the Honda CBR1100XX, a high performance motorcycle, and to avoid having to manufacture two separate versions of the vehicle, one for the United States and another for Europe. Honda's stated rationale for the proposed changes was to provide the motorcycle rider with a more linear braking lever input force, so that the safety advantages of the CBR1100XX Combined Brake System (CBS) can be fully utilized. The safety advantages cited were enhanced motorcycle stability and decreased stopping distance. Honda stated that the CBS provides the advantages by applying braking to both wheels when either the hand lever or the foot pedal is applied.

² Prior to submitting that petition for rulemaking, Honda petitioned for a temporary exemption for its motorcycle. In a Federal Register notice dated October 7, 1997 (62 FR 52372) (No DOT Docket No.), we granted Honda a temporary exemption from the following Standard No. 122 provisions for the CBS100XX motorcycle: S5.4.1 Baseline check—minimum and maximum pedal forces, S5.4.2 Fade, S54.3 Fade recovery, S5.7.2 Water recovery test, and S6.10 Brake actuation forces. The one-year exemption expired on September 1, 1998.

Honda was granted additional temporary exemptions from the above specified Standard No. 122 provisions until September 1, 1999 (63 FR 65272, November 25, 1998) (Docket No. NHTSA-98-4275; Notice 2); September 1, 2000 (See 64 FR 44263, August 13, 1999) (Docket No. NHTSA 99-5698; Notice 2) and until December 1, 2001 (See 66 FR 2046, January 10, 2001) (Docket No. NHTSA 2000-8090; Notice 2).

In its petition, Honda stated that: “when Standard No. 122 was originally drafted, it was clearly based on motorcycle independent front and rear brake systems, and did not anticipate or fully address the current generation of relatively advanced braking systems.” Honda explained that the CBS allows the rider to apply the brakes to both wheels by activating either the hand lever or the foot pedal. When Standard No. 122 was first promulgated, all motorcycles used independent controls, i.e., the hand lever controlled the front brakes and the foot pedal controlled the rear brakes. On the CBR1100XX, in contrast, the brake forces are applied to both the front and the rear brakes. The way in which brake forces are apportioned between them depends on whether the hand lever or the foot pedal is used. For example, if the motorcyclist applies only the hand lever, the greater portion of the braking occurs at the front wheel. Similarly, if the motorcyclist applies only the foot pedal, most of the braking will occur at the rear wheel. These results are achieved by using multi-piston brake calipers at each wheel, which can be partially or fully applied, depending on whether the hand lever or the foot pedal is applied.

Honda stated that the requested amendments to Standard No. 122 are needed because of the gradual reduction in the motorcycle operator force levels (in advanced designs such as the CBR1100XX) needed for brake actuation. Honda explained that reductions in force levels are possible because of technological advances such as better brake pads, rotor designs and materials; better brake hose materials; stiffer caliper designs and attachments; improved motorcycle tire design, construction, and compounds; and the CBS. Honda asserts that its CBS represents a technological improvement for motorcycles. With its new system, motorcycle operator control and braking characteristics are similar to those of an automobile driver, i.e., one input results in braking at all wheels.

Honda also stated that a minimum lever or pedal force is not required in the European motorcycle regulation, ECE Regulation 78, and that no related safety problems or “excessively sensitive brakes” have been reported in Europe or elsewhere. Honda stated its belief that the elimination of a minimum force requirement in Standard No. 122 would increase global harmonization.

In a letter dated July 13, 1998, Honda amended its petition, requesting that, in Standard No. 122, the minimum hand lever force be reduced to 10 Newtons (2.3 pounds) and the minimum foot pedal force be reduced to 25 Newtons (5.6 pounds).

In a letter dated March 16, 1999, NHTSA granted Honda's petition for rulemaking.

Notice of Proposed Rulemaking

On November 17, 1999, we published in the Federal Register (64 FR 626220) (DOT Docket No. NHTSA-99-6472) a notice of proposed rulemaking to amend Standard No. 122 by reducing the minimum hand lever force to 10 Newtons (2.3 pounds), and reducing the minimum foot pedal force to 25 Newtons (5.6 pounds). We explained why we did not propose to completely eliminate a minimum braking force for the hand lever and for the foot pedal, and why we believed there are benefits to specifying lower minimum hand lever and foot pedal forces.

Determination of Minimum Hand Lever and Foot Pedal Forces

We provided the following explanation of how we recalculated the fade recovery (S5.4.3) and the water recovery (S5.7.2) test ranges to take into account the lower minimum hand lever and foot pedal forces. As earlier noted, the fade recovery and the water recovery tests include a range within which the hand lever and foot pedal forces must be for the fifth recovery stop. At present, Standard No. 122 specifies a 30-pound range with upper and lower limits of plus 20 pounds to minus 10 pounds, respectively, of the baseline check average force obtained from conducting the baseline checks. We proposed to revise the limits to correspond with the proposed minimum lever and pedal brake forces.

We noted that Standard No. 122 was developed using the “Report of the Motorcycle Committee and Brake Committee”; July 1969 from the Society of Automotive Engineers (SAE). For foot pedals, the current lower limit value specified, minus 10 pounds, is based on the minimum foot pedal force level required for the brake actuation forces for the baseline check stops. Since the baseline check average for the foot pedal force is required to be at least 10 pounds, a lower limit of minus 10 pounds, therefore, allows the pedal force achieved during the fifth recovery stop to be zero pounds. Similarly, the baseline check average for the hand lever force is required to be at least five pounds. However, within the specified range of plus 20 pounds and minus 10 pounds, the hand lever force for the fifth recovery stop could theoretically be as low as minus five pounds. It is physically impossible for the lever force to be less than zero. Thus, the practical range of the hand lever force for the fifth recovery is reduced from 30 pounds to 25 pounds. For hand lever forces of 10 pounds or more achieved during the baseline check stop, the range for the resulting forces during the fifth recovery stop would be 30 pounds.

We proposed to maintain this 30-pound range in the braking forces. The 30-pound range in metric measurement is 135 Newtons. For the hand lever forces, different upper and lower values for the range are proposed to ensure that the force in the fifth recovery stop could not be specified as less than zero Newtons. Taking into consideration the proposed reductions in the minimum foot pedal and hand lever forces for the baseline check stops, we proposed revised upper and lower limits accordingly, so that the forces obtained in the fifth recovery stop could not be theoretically less than zero Newtons.

For the proposed 25 Newton (5.6 pounds) foot pedal minimum, we proposed as limits plus 110 Newtons (24.7 pounds) and minus 25 Newtons (5.6 pounds). For the proposed 10 Newton (2.3 pounds) hand lever minimum, we proposed as limits plus 125 Newtons (28.1 pounds) and minus 10 Newtons (2.3 pounds).

We stated our belief that these limits more appropriately reflect the corresponding minimum lever and pedal efforts proposed for the baseline check stops.

Striking a Balance Between Mature and State-of-the-Art Technologies

In the NPRM, we cited as an important reason for retaining minimum braking forces, the fact that motorcycles are still being manufactured that do not have the linked braking system found on the Honda CBR1100XX. For model year 1999, cable-actuated brakes and drum brakes (the predominant technology at the time Standard No. 122 was issued) continue to be used on many new motorcycles. In the NPRM, we sought a common ground between the old and new technologies, ensuring that Standard No. 122's safety requirements remain applicable to motorcycles manufactured with mature technology, but are flexible enough to ensure that motorcycles manufactured with new technology meet the need for safety. Maintaining a minimum hand lever and foot pedal force will ensure that motorcycles using mature technology will not have problems with overly sensitive brakes.

We stated that for motorcycles using state-of-the-art technologies, we foresee a continuing trend towards lower braking forces. We stated our belief that in the future, electronic braking technology could become commercially available on motorcycles. That application might allow motorcyclists to stop their motorcycles using less hand lever or foot pedal force. Even with these trends toward lower brake forces, the minimum forces proposed in the NPRM are for a deceleration rate of 10 to 11 fps² and would therefore always be greater than the lever and pedal forces needed for the onset of braking.

International Harmonization Issues

In the NPRM, we cited information from the United Nations' Economic Commission for Europe (ECE) and Dr. Nicholas Rogers, Secretary General of the International Motorcycle Manufacturers' Association (in Geneva). We stated our understanding that minimum hand lever or foot pedal forces are not required in ECE Regulation 78. However, even though minimum forces are not specified in the European regulation, that does not mean that current production European motorcycles' braking systems are activated with extremely low lever or pedal forces. For example, on a European version of the Honda CBR1100XX, the minimum hand lever force measured for the fade and water recovery tests is 4.6 pounds, a force close to the 5 pound hand lever force minimum presently in Standard No. 122.

Human Factors Issues

In the NPRM, we noted that eliminating minimum hand lever and foot pedal forces might raise a human factors concern for American riders who are not accustomed to the lower hand and foot forces that European motorcyclists have experienced. We specifically sought public comment on this issue. With regard to lower minimum forces, however, many motorcyclists have noted that reduced hand lever and foot pedal braking forces may result in better control, a safety benefit. We also noted that increasing numbers of motorcyclists are older persons (older than 65 years of age) and women, population groups which may welcome the availability of motorcycles with linked braking systems and the reduced braking inputs required at the lever and the pedal. As earlier noted, linked braking systems such as Honda's CBS can balance the undesired handling and braking characteristics of “sensitive brakes” by applying the brakes at both wheels when either the lever or pedal is applied.

Other Rulemaking Issues

Finally, our review of Standard No. 122 disclosed that the introductory text to S6, Test conditions, had been inadvertently removed. We therefore proposed to restore the removed language.

Leadtime

We recommended that the proposed amendments, if made final, take effect one year after the publication of the final rule. We stated our belief that manufacturers were already making motorcycles that can meet the proposed minimum braking forces. In the event changes in design or manufacturing procedures are necessary, we stated our belief that one year would be enough lead time for industry to make any necessary changes. Motorcycle manufacturers would be given the option of complying immediately with the new requirements.

Public Comments and NHTSA's Response

In response to the NPRM, we received comments from American Honda Motor (Honda), American Suzuki Corporation (Suzuki), Kawasaki Motors Corporation (Kawasaki), and from the Motorcycle Industry Council (the Council). Each commenter supported our proposal to lower the minimum hand lever force and minimum foot pedal force for the fade recovery and water recovery tests. Specifically, the Council stated that the “amendment will facilitate the manufacture of motorcycles with linked, combined, or proportional brake systems.”

However, no commenter supported our proposal to change the allowable range of hand lever and foot pedal forces for the fifth recovery stop. The commenters stated that in conducting compliance testing, they found that the average baseline check forces are significantly higher than the required minimum forces. Honda, Kawasaki, and Suzuki provided data showing that it is possible that some motorcycles certified to Standard No. 122 (as presently specified) may not be able to meet the new force requirements for the fifth recovery stop proposed in the NPRM. The Council wrote that if NHTSA's concern were with the matter of a negative force value, language could be added to S5.4.3 and S5.7.2 to provide that the foot pedal force and hand lever force is within * * * “but not less than 0 pounds” * * *, which the Council suggested would address the problem.

For more background information on the motorcycle manufacturers' concerns about the proposed force requirements for the fifth recovery stop, NHTSA consulted with Dr. Nicholas Rogers of the International Motorcycle Manufacturers' Association (IMMA) about motorcycle fade recovery hand lever and pedal efforts being lower than the baseline. Dr. Rogers indicated in a telephone conversion that with certain types of friction materials used on motorcycle brake linings, there is a tendency of the friction between the brake lining and the disc to rise with temperature. This could result in a reduction of the hand lever and foot pedal efforts achieved during the baseline check. We found IMMA's information to be informative, and counter-intuitive, based on our knowledge of fade recovery performance on other motor vehicles.

Fade recovery performance requirements in NHTSA's other brake standards (i.e., Standards Nos. 105, Hydraulic and electric brake systems; Standard No. 121, Air brake systems; and Standard No. 135, Passenger car brake systems.) are based on the premise that motor vehicle stopping distance tends to increase with increasing brake lining temperature. However, as the commenters and IMMA indicated, the premise is not necessarily true for all motorcycle braking systems. With this information, we better understand the industry's desire to keep the same allowable range for the hand lever and foot pedal forces for the fifth recovery stop. Therefore, for the fifth recovery stop, we are not revising the upper and lower limits of the hand lever and foot pedal efforts in this final rule (i.e., the limits of the lever and pedal efforts remain at plus 89 Newtons (20 pounds) and minus 44 Newtons (10 pounds) of the baseline check average force (See S7.6.1)). We have added a qualification to the final rule that the hand lever or foot pedal efforts cannot be less than 0 Newtons (0 pounds). We did this to avoid any possible misinterpretation that lever or pedal braking forces can be negative.

Regulatory Analyses and Notices

Executive Order 12866 and DOT Regulatory Policies and Procedures

Executive Order 12866, “Regulatory Planning and Review” (58 FR 51735, October 4, 1993), provides for making determinations whether a regulatory action is “significant” and therefore subject to Office of Management and Budget (OMB) review and to the requirements of the Executive Order. The Order defines a “significant regulatory action” as one that is likely to result in a rule that may:

(1) Have an annual effect on the economy of $100 million or more or adversely affect in a material way the economy, a sector of the economy, productivity, competition, jobs, the environment, public health or safety, or State, local, or Tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

We have considered the impact of this rulemaking action under Executive Order 12866 and the Department of Transportation's regulatory policies and procedures. This rulemaking document was not reviewed under Executive Order 12866, “Regulatory Planning and Review.” Further, we have determined that this action is not “significant” within the meaning of the Department of Transportation's Regulatory Policies and Procedures (44 FR 11034; February 26, 1979).

For the following reasons, NHTSA believes that this final rule will not have any cost effect on motorcycle manufacturers. We believe that all motorcycle manufacturers are already manufacturing motorcycles that meet the new minimum hand lever and foot pedal forces established in this final rule.

Because the economic impacts of this final rule are so minimal, no further regulatory evaluation is necessary.

Executive Order 13132 (Federalism)

Executive Order 13132 requires us to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, we may not issue a regulation with Federalism implications, that imposes substantial direct compliance costs, and that is not required by statute, unless the Federal government provides the funds necessary to pay the direct compliance costs incurred by State and local governments, or unless we consult with State and local officials early in the process of developing the proposed regulation.

This final rule will not have substantial direct effects on the States, on the relationship between the national government and the States, or on the distribution of power and responsibilities among the various levels of government, as specified in Executive Order 13132. The reason is that this final rule applies to manufacturers of motorcycles, and not to States or local governments. Thus, the requirements of Section 6 of the Executive Order do not apply.

Executive Order 13045

Executive Order 13045 (62 FR 19885, April 23, 1997) applies to any rule that: (1) is determined to be “economically significant” as defined under Executive Order 12866, and (2) concerns an environmental, health or safety risk that NHTSA has reason to believe may have a disproportionate effect on children. If the regulatory action meets both criteria, we must evaluate the environmental health or safety effects of the planned rule on children, and explain why the planned regulation is preferable to other potentially effective and reasonably feasible alternatives considered by us.

This rule is not subject to the Executive Order because it is not economically significant as defined in Executive Order 12866. It does not involve decisions based on health risks that disproportionately affect children.

Executive Order 12778

Pursuant to Executive Order 12778, “Civil Justice Reform,” we have considered whether this final rule will have any retroactive effect. We conclude that it will not have such an effect. Under 49 U.S.C. 30103, whenever a Federal motor vehicle safety standard is in effect, a State may not adopt or maintain a safety standard applicable to the same aspect of performance which is not identical to the Federal standard, except to the extent that the state requirement imposes a higher level of performance and applies only to vehicles procured for the State's use. 49 U.S.C. 30161 sets forth a procedure for judicial review of final rules establishing, amending or revoking Federal motor vehicle safety standards. That section does not require submission of a petition for reconsideration or other administrative proceedings before parties may file suit in court.

Regulatory Flexibility Act

Pursuant to the Regulatory Flexibility Act (5 U.S.C. 601 et seq., as amended by the Small Business Regulatory Enforcement Fairness Act (SBREFA) of 1996) whenever an agency is required to publish a notice of rulemaking for any proposed or final rule, it must prepare and make available for public comment a regulatory flexibility analysis that describes the effect of the rule on small entities (i.e., small businesses, small organizations, and small governmental jurisdictions). However, no regulatory flexibility analysis is required if the head of an agency certifies the rule will not have a significant economic impact on a substantial number of small entities. SBREFA amended the Regulatory Flexibility Act to require Federal agencies to provide a statement of the factual basis for certifying that a rule will not have a significant economic impact on a substantial number of small entities.

The Head of the Agency has considered the effects of this rulemaking action under the Regulatory Flexibility Act (5 U.S.C. 601 et seq.) and certifies that this final rule will not have a significant economic impact on a substantial number of small entities. The factual statement that is the basis for this certification is that since all motorcycle manufacturers, including small manufacturers, are already manufacturing motorcycles that meet the new minimum braking forces established in this final rule, any changes made by this rule will have no substantive effect on small motorcycle manufacturers. The U.S. Small Business Administration's size standards (at 13 CFR § 121.201) defines a small motorcycle manufacturer (under Standard Industrial Classification Code 3711 “Motor Vehicles and Passenger Car Bodies”) as a business operating primarily in the United States that has fewer than 1,000 employees. Accordingly, the agency believes that this final rule will not affect the costs of the motorcycle manufacturers considered to be small business entities.

National Environmental Policy Act

We have analyzed this final rule for the purposes of the National Environmental Policy Act and determined that it will not have any significant impact on the quality of the human environment.

Paperwork Reduction Act

Under the Paperwork Reduction Act of 1995 (PRA), a person is not required to respond to a collection of information by a Federal agency unless the collection displays a valid OMB control number. This final rule does not include any new information collection requirements.

National Technology Transfer and Advancement Act

Section 12(d) of the National Technology Transfer and Advancement Act of 1995 (NTTAA), Public Law 104-113, section 12(d) (15 U.S.C. 272) directs us to use voluntary consensus standards in our regulatory activities unless doing so would be inconsistent with applicable law or otherwise impractical. Voluntary consensus standards are technical standards (e.g., materials specifications, test methods, sampling procedures, and business practices) that are developed or adopted by voluntary consensus standards bodies, such as the Society of Automotive Engineers (SAE). The NTTAA directs us to provide Congress, through OMB, explanations when we decide not to use available and applicable voluntary consensus standards.

After conducting a search of available sources, we have determined that there are no available and applicable voluntary consensus standards that we can use in this final rule.

Unfunded Mandates

Section 202 of the Unfunded Mandates Reform Act of 1995 (UMRA) requires Federal agencies to prepare a written assessment of the costs, benefits and other effects of proposed or final rules that include a Federal mandate likely to result in the expenditure by State, local or tribal governments, in the aggregate, or by the private sector, of more than $100 million in any one year (adjusted for inflation with base year of 1995). Before promulgating a NHTSA rule for which a written statement is needed, section 205 of the UMRA generally requires us to identify and consider a reasonable number of regulatory alternatives and adopt the least costly, most cost-effective or least burdensome alternative that achieves the objectives of the rule. The provisions of section 205 do not apply when they are inconsistent with applicable law. Moreover, section 205 allows us to adopt an alternative other than the least costly, most cost-effective or least burdensome alternative if we publish with the final rule an explanation why that alternative was not adopted.

For the reasons stated above, this final rule does not result in costs of $100 million or more to either State, local, or tribal governments, in the aggregate, or to the private sector. Thus, this final rule is not subject to the requirements of sections 202 and 205 of the UMRA.

Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

List of Subjects in 49 CFR Part 571

Imports, Motor vehicle safety, Motor vehicles, Rubber and rubber products, Tires.

In consideration of the foregoing, Federal Motor Vehicle Safety Standards (49 CFR Part 571), is amended as set forth below.

PART 571—FEDERAL MOTOR VEHICLE SAFETY STANDARDS

1. The authority citation for part 571 continues to read as follows:

Authority: 49 U.S.C. 322, 30111, 30115, 30117, and 30166; delegation of authority at 49 CFR 1.50.

§ 571.122 [Amended]

2. Section 571.122 is amended by revising S5.4.3, revising S5.7.2, adding S6., and revising the first sentence of S6.10 to read as follows:

§ 571.122 Standard No. 122; Motorcycle braking systems.

* * * * *

S5.4.3 Fade recovery. Each motorcycle shall be capable of making five recovery stops with a pedal force that does not exceed 400 Newtons (90 pounds), and a hand lever force that does not exceed 245 Newtons (55 pounds) for any of the first four recovery stops and that for the fifth recovery stop, is within, plus 89 Newtons (20 pounds) and minus 44 Newtons (10 pounds) of the fade test baseline check average force (S7.6.3), but not less than 0 Newtons (0 pounds).

* * * * *

S5.7.2 Water recovery test. Each motorcycle shall be capable of making five recovery stops with a pedal force that does not exceed 400 Newtons (90 pounds), and hand lever force that does not exceed 245 Newtons (55 pounds), for any of the first four recovery stops, and that for the fifth recovery stop, is within, plus 89 Newtons (20 pounds) and minus 44 Newtons (10 pounds) of the water recovery baseline check average force (S7.10.2), but not less than 0 Newtons (0 pounds).

* * * * *

S6 Test conditions. The requirements of S5 shall be met under the following conditions. Where a range of conditions is specified, the motorcycle shall be capable of meeting the requirements at all points within the range.

* * * * *

S6.10 Brake actuation forces. Except for the requirements of the fifth recovery stop in S5.4.3 and S5.7.2 (S7.6.3 and S7.10.2), the hand lever force is not less than 10 Newtons (2.3 pounds) and not more than 245 Newtons (55 pounds) and the foot pedal force is not less than 25 Newtons (5.6 pounds) and not more than 400 Newtons (90 pounds). * * *

* * * * *

Issued on: August 7, 2001.
L. Robert Shelton,
Executive Director.

[FR Doc. 01-20428 Filed 8-13-01; 8:45 am]

BILLING CODE 4910-59-P